DEPARTMENT OF TRANSPORTATION

Federal Motor Carrier Safety Administration

[Docket No. FMCSA-2006-26304]

Agency Information Collection Activities; Revision of Approved Information Collections: OMB Control Numbers 2126-0010 (Motor Carrier Safety Assistance Program); 2126-0011 (Commercial Driver Licensing and Test Standards); and 2126-0025 (Transportation of Household Goods; Consumer Protection)

AGENCY: Federal Motor Carrier Safety Administration (FMCSA), DOT.

ACTION: Notice; request for comments.

SUMMARY: FMCSA invites public comment on its intent to request approval from the Office of Management and Budget (OMB) to revise three (3) information collections (ICs), entitled “Motor Carrier Safety Assistance Program” (2126-0010), “Commercial Driver Licensing and Test Standards” (2126-0011), and “Transportation of Household Goods; Consumer Protection” (2126-0025). These ICs are necessary to ensure that motor carriers comply with changes made by various provisions of the Safe, Accountable, Flexible, Efficient Transportation Equity Act: A Legacy for Users (SAFETEA-LU). We are required to publish this notice in the Federal Register by the Paperwork Reduction Act of 1995 and implementing regulations at 5 CFR 1320.10.

DATES: Comments must be submitted on or before January 19, 2007.

ADDRESSES: You may mail or hand deliver comments to the U.S. Department of Transportation, Dockets Management Facility, Room PL-401, 400 Seventh Street, SW., Washington, DC 20590; telefax comments to 202/493-2251; or submit them electronically at http://dms.dot.gov. All comments should include the docket number in this notice's heading. All comments may be examined and copied at the above address from 9 a.m. to 5 p.m., Monday through Friday, except Federal holidays. If you desire a receipt you must include a self-addressed stamped envelope or postcard or, if you submit your comments electronically, you may print the acknowledgment.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

FOR FURTHER INFORMATION CONTACT: Mr. Frederic L. Wood, Office of Chief Counsel, Regulatory Affairs Division (MC-CCR), Federal Motor Carrier Safety Administration, Room 8201, 400 Seventh Street, SW., Washington, DC 20590; telephone (202) 366-0834. Office hours are from 9 a.m. to 5 p.m., Monday through Friday, except Federal holidays.

SUPPLEMENTARY INFORMATION: The information stated below reflects the proposed changes and the new total annual burden hours for each.

(1) Title: Motor Carrier Safety Assistance Program.

FMCSA IC: OMB Control No. 2126-0010.

Form No.: Forms MCSAP-1, MCSAP-2, and MCSAP-2A.

Type of Review: Revision of a currently approved collection.

Respondents: State Grant Applicants.

Number of Respondents: 52 (per quarter).

Estimated Time Per Response: 80 hours.

Expiration Date: November 30, 2007.

Frequency: Quarterly (reports) and Annually (grant application).

Total Annual Burden: 12,264 hours.

(2) Title: Commercial Driver Licensing and Test Standards.

FMCSA IC: OMB Control No. 2126-0011.

Form No.: None.

Type of Review: Revision of a currently approved collection.

Respondents: Holders of and applicants for commercial driver's licenses.

Number of Respondents: 12,523,571/year.

Estimated Time Per Response: 6 minutes.

Expiration Date: April 30, 2007.

Frequency: On occasion.

Total Annual Burden: 1,269,856 hours.

(3) Title: Transportation of Household Goods; Consumer Protection.

FMCSA IC: OMB Control No. 2126-0025.

Form No.: Form MCSA-2P.

Type of Review: Revision of a currently approved collection.

Respondents: Motor Carriers and Individual Shippers of Household Goods.

Number of Respondents: 6,017.

Estimated Time Per Response: Varies from 5 minutes to display assigned U.S. DOT number in created advertisement to 125 minutes to distribute consumer publication.

Expiration Date: August 31, 2008.

Frequency: On occasion.

Total Annual Burden: 4,648,370 hours.

Background

Summarized below is background information for all three (3) information collection requests subject to this notice.

First, the Motor Carrier Safety Assistance Program (MCSAP) requires that the Secretary of Transportation (Secretary) review reports submitted by the States and conduct inspections to continuously evaluate a State's enforcement plan. Sections 401 through 404 of the Surface Transportation Assistance Act of 1982 (Pub. L. 97-424, Jan. 6, 1983) (STAA), as amended by 49 U.S.C. 31100 et seq., established a program of financial assistance to the States to implement programs to enforce Federal and compatible State rules, regulations, standards, and orders applicable to commercial motor vehicle (CMV) safety. The Safe, Accountable, Flexible, Efficient Transportation Equity Act: A Legacy for Users (Pub. L. 109-59, 119 Stat. 1144, Aug. 10, 2005) (SAFETEA-LU) amended 49 U.S.C. 31102(b)(1) to modify the conditions a State must meet to qualify for grant funds through MCSAP and now requires the following conditions be addressed in the State's Commercial Vehicle Safety Plan: (1) Deploying technology as part of performance-based activities to enhance the efficiency and effectiveness of CMV safety programs; (2) disseminating as part of the CMV and non-CMV licensing examination information on best practices for driving safely in the vicinity of noncommercial and commercial motor vehicles; (3) conducting comprehensive and highly visible traffic enforcement and CMV safety inspection programs in high-risk areas; (4) ensuring that inspections of certain passenger vehicles are conducted at a station or other facility where a motor carrier may make a planned stop; and (5) allowing the use of funds to conduct documented enforcement of State traffic laws. The overall impact of these provisions increases total burden hours by an estimated 403 burden hours, chiefly as a result of non-CMV traffic enforcement activities.

Second, the Commercial Driver Licensing (CDL) and Test Standards program ensures that licensed drivers are properly qualified to drive the vehicles they operate and that drivers do not have a history of high-risk safety behavior. The Commercial Motor Vehicle Safety Act of 1986 (Pub. L. 99-570, Title XII, 100 Stat. 3207-170, Oct. 27, 1986), as amended by 49 U.S.C. chapter 313, required, among other things, that each driver have only one license, that States be notified of any convictions of traffic law violations, and that employers be notified within one business day of notification of suspension, revocation, or cancellation of a license or loss of the right to operate a CMV. States must comply with CDL program requirements and pass State compliance reviews, or a portion of their Federal-aid highway funds can be withheld. SAFETEA-LU made two amendments to the CDL program. Section 4102(b)(2)-(4) increased the minimum disqualification periods and civil penalties for drivers and the maximum civil penalties for employers convicted of violating an out-of-service order. Section 4124(c) modified the State penalty for noncompliance by adding the phrase “up to” before the existing phrases “5 percent” and “10 percent,” respectively. This potentially reduces the penalty provisions for the first and subsequent years, respectively, for noncompliance with the Federal CDL requirements. Because of an adjustment made to reflect the net effect of an increase in the number of CDL driver records and a decrease in the number of active CDL driver records, the paperwork burden has decreased by an estimated 3,142 burden hours. This change is independent of these SAFETEA-LU provisions.

Third, in the Motor Carrier Safety Improvement Act of 1999 (Pub. L. 106-159, 113 Stat. 1749, Dec. 9, 1999) (MCSIA), Congress authorized the Agency to regulate household goods carriers engaged in interstate operations for individual shippers. In earlier legislation, Congress abolished the Interstate Commerce Commission and transferred the Commission's jurisdiction over household goods transportation to the U.S. Department of Transportation (DOT) (ICC Termination Act of 1995, Public Law 104-88). Prior to FMCSA's establishment, the Secretary delegated this household goods jurisdiction to the Federal Highway Administration, FMCSA's predecessor organization within DOT. A General Accounting Office report, “Consumer Protection: Federal Actions Are Needed to Improve Oversight of the Household Goods Moving Industry,” No. GAO-01-318, found that DOT needed to increase regulatory oversight of the household goods moving industry and increase consumer education. FMCSA subsequently issued rules that clarified industry requirements and continued a requirement that motor carriers provide individual shippers of household goods with the consumer pamphlet “Your Rights and Responsibilities When You Move” (Appendix A to 49 CFR Part 375) to educate consumers on their legal rights in the moving process (70 FR 39949, July 12, 2005).

Sections 4202 through 4216 of SAFETEA-LU amended various provisions of existing law regarding household goods transportation, specifically addressing: definitions (section 4202); payment of rates (section 4203); registration requirements for household goods motor carriers (section 4204); carrier operations (section 4205); enforcement of regulations (section 4206); liability of carriers under receipts and bills of lading (section 4207); arbitration requirements (section 4208); civil penalties for brokers and unauthorized transportation (section 4209); penalties for holding goods hostage (section 4210); consumer handbook (section 4211); release of broker information (section 4212); working group for Federal-State relations (section 4213); consumer complaint information (section 4214); review of liability of carriers (section 4215); and application of State laws (section 4216). These provisions require corresponding changes to the “Your Rights and Responsibilities When You Move” consumer pamphlet. Section 4205 also requires the motor carrier to provide to the shipper a copy of the publication “Ready to Move?” (or its successor publication). These publications provide concise, valuable consumer protection information regarding the legal rights of individual shippers.

The household goods transportation provisions of SAFETEA-LU increase total paperwork burden by an estimated 278,333 burden hours. The largest portion of this increase stems from requirements in section 4205 regarding the estimate of the transportation charges and the physical survey of the household goods.

Public Comments Invited: You are asked to comment on any aspect of the information collections referenced here, including: (1) Whether the proposed collection is necessary for FMCSA's performance; (2) the accuracy of the estimated burden; (3) ways for FMCSA to enhance the quality, usefulness, and clarity of the collected information; and (4) ways that the burden could be minimized without reducing the quality of the collected information. The Agency will summarize and/or include your comments in the request for OMB's clearance of this information collection.

Issued on: November 9, 2006.
John H. Hill,
Administrator.

[FR Doc. E6-19564 Filed 11-17-06; 8:45 am]

BILLING CODE 4910-EX-P